DEPARTMENT OF HEALTH AND HUMAN SERVICES

Centers for Disease Control and Prevention

Breast and Cervical Cancer Early Detection and Control Advisory Committee (BCCEDCAC)

In accordance with section 10(a)(2) of the Federal Advisory Committee Act (Pub. L. 92-463), the Centers for Disease Control and Prevention (CDC), announces the following meeting of the aforementioned committee:

Times and Dates: 9:00 a.m.-5:00 p.m., EST, November 6, 2014. 9:00 a.m.-12:30 p.m. EST, November 7, 2014.

Place: CDC, 2900 Woodcock Boulevard, University Office Park, Columbia Building, Room 1064/1065, Atlanta, Georgia 30341.

Teleconference login information is as follows:

For Participants:

TOLL-FREE PHONE #: 800-988-9707.

Participant passcode: 4798.

For Participants:

URL: https://www.mymeetings.com/nc/join/.

Conference number: PW8992754.

Audience passcode: 4798.

Participants can join the event directly at: https://www.mymeetings.com/nc/join.php?i=PW8992754&p=4798&t=c.

There is also a toll number for anyone outside of the USA:

TOLL PHONE #: 1 (312) 470-7387.

Participant passcode: 4798.

Status: Open to the public, limited only by space and net conference and audio phone lines available.

Purpose: The committee is charged with advising the Secretary, Department of Health and Human Services, and the Director, CDC, regarding the early detection and control of breast and cervical cancer. The committee makes recommendations regarding national program goals and objectives; implementation strategies; and program priorities including surveillance, epidemiologic investigations, education and training, information, dissemination, professional interactions and collaborations, and policy.

Matters for Discussion: The agenda will include: (1) Discussing the impact of implementation of the Affordable Care Act on the National Breast and Cervical Cancer Early Detection Program (NBCCEDP); (2) assessing the needs of the public and impact to the NBCCEDP; (3) population-based activities to increase appropriate screening; (4) screening communication tools; (5) provider risk assessments.

Agenda items are subject to change as priorities dictate.

Contact Person for More Information: Jameka R. Blackmon, MBA, CMP, Designated Federal Officer, National Center for Chronic Disease Prevention and Health Promotion, CDC, 4770 Buford Highway NE., Mailstop F76, Atlanta, Georgia 30341, Telephone (770) 488-4880.

The Director, Management Analysis and Services Office, has been delegated the authority to sign Federal Register notices pertaining to announcements of meetings and other committee management activities for both the Centers for Disease Control and Prevention and the Agency for Toxic Substances and Disease Registry.

Claudette Grant,
Acting Director, Management Analysis and Services Office, Centers for Disease Control and Prevention.

[FR Doc. 2014-24442 Filed 10-14-14; 8:45 am]

BILLING CODE 4163-18-P